DEPARTMENT OF DEFENSE

Department of the Navy

Notice of Intent To Prepare an Environmental Impact Statement for TRIDENT Support Facilities Explosives Handling Wharf, Naval Base Kitsap-Bangor, Silverdale, Kitsap County, WA and To Announce Public Scoping Meeting

AGENCY: Department of the Navy, DoD.

ACTION: Notice.

SUMMARY: Pursuant to section (102)(2)(c) of the National Environmental Policy Act of 1969, and the regulations implemented by the Council on Environmental Quality (40 CFR parts 1500-1508), the Department of the Navy (Navy) announces its intent to prepare an Environmental Impact Statement (EIS) to evaluate the potential environmental impacts associated with the construction and operation of a proposed new Explosives Handling Wharf (EHW) located adjacent to, but separate from, the existing EHW on Hood Canal, NBK-Bangor, WA, to support TRIDENT submarines.

The proposed action consists of in-water and land-based construction and infrastructure enhancements including a covered ordnance operations area, a support building on the wharf, and a warping wharf. As part of the Navy's sea-based strategic deterrence mission, the Navy Strategic Systems Programs (SSP) directs research, development, manufacturing, test, evaluation, and operational support of the TRIDENT Fleet Ballistic Missile program. SSP is the Action Proponent and the Navy is the lead agency for this project.

The Navy will hold a public scoping meeting for the purpose of further identifying the scope of issues to be addressed in the EIS. Federal, State, and local agencies and the public are invited to participate in the scoping process for the EIS. Comments are being solicited to help identify significant issues or concerns related to the proposed action, determine the scope of issues to be addressed in the EIS, and identify and refine alternatives to the proposed action.

The Navy will conduct a public scoping meeting to receive oral and/or written comments on environmental concerns that should be addressed in the EIS. The public scoping meeting will be conducted in English and will be arranged in an informal, open house format. Attendees will be asked to sign in and will be directed to various stations manned by Navy representatives and technical staff assigned to provide information and answer questions. Several large display boards will be located throughout the meeting location to assist attendees in understanding the project and the alternatives. A comment table, supplied with comment sheets, will be placed in an easily accessible and comfortable location. Fact sheets about the project and alternatives will be available to participants.

Dates and Addresses: The public scoping meeting will be held on Thursday, June 26, 2008 from 5:30 p.m. to 8:30 p.m. at the Silverdale Community Center, 9729 Silverdale Way, NW., Evergreen Room, Silverdale, WA 98383.

FOR FURTHER INFORMATION CONTACT: Mr. Jack Spiller, Public Affairs Officer, Department of the Navy, Strategic Systems Programs, 2521 South Clark Street, Suite 1000, Arlington, VA 22202-3930, telephone: 703-601-9009, e-mail at: nbkehweis@ssp.navy.mil.

SUPPLEMENTARY INFORMATION: The proposed action is to construct and operate a proposed new EHW located adjacent to, but separate from, the existing EHW on Hood Canal, NBK-Bangor, WA, to support TRIDENT submarines. The purpose of the proposed action is to meet current and future technical program requirements for the TRIDENT mission. The need for the proposed action is to provide capability for loading and unloading missiles and torpedoes on submarines homeported at NBK-Bangor.

The new EHW is needed to maintain operational availability of the TRIDENT Program. The original plan for the TRIDENT base at Bangor, described in an environmental impact statement dated July 1974 provided for three EHWs. Two EHWs were constructed for the TRIDENT base at Kings Bay, Georgia, and operations at Kings Bay have demonstrated the efficiency and effectiveness that can be achieved by a second EHW. Eight of the Navy's 14 TRIDENT submarines are now homeported at Bangor, increasing the need to construct the second EHW envisioned in the original plan for Bangor.

Alternatives for the proposed action were identified based on capability for meeting TRIDENT Program mission requirements, ability to avoid or minimize environmental impacts, siting requirements including proximity to existing infrastructure, availability of waterfront property, constructability of essential project features, and master planning issues such as explosives safety restrictions.

Alternatives to be considered include: (1) Deep-Water Trestle EHW; (2) Onshore Trestle EHW; (3) No Action Alternative. For both action alternatives, the EHW would be located in deep water, parallel to and 600 feet from the shore, and placement of structures over the intertidal zone would be minimized. The new EHW would include a covered operations area approximately 600 feet long and 250 feet wide, supplemented by an uncovered wharf extension approximately 700 feet long and 40 feet wide.

The wharf would either be an anchored floating structure or a structure supported by piles. Separate pile-supported entrance and exit trestles, or bridges, would provide a roadway for missile transport vehicles to travel from shore to the EHW and back to shore. For both action alternatives, the entrance trestle would be constructed from the end of the existing EHW access road to connect to the north end of the new EHW. The two action alternatives differ in the location of the exit trestle, which would connect the south end of the new EHW to the existing EHW access road.

Under the Deep-Water Trestle alternative, parallel entry and exit trestles would be constructed to transport ordnance to and from the wharf. The exit trestle would be constructed over deep water to the extent possible, crossing the intertidal zone and returning to land at the existing EHW access road. The Deep-Water Trestle alternative would require approximately 1,000 feet of additional in-water construction but would avoid construction of a road on the steep embankment adjacent to the proposed site for the EHW.

For the Onshore Trestle alternative, the exit trestle would be constructed to take the shortest distance to shore from the south end of the new EHW. This alternative would require extension of the exit trestle approximately 1,400 feet along the edge of the steep embankment on the shore, away from the intertidal zone, to connect to the existing access road.

No decision will be made to implement any alternative until the EIS process is completed and a Record of Decision is signed by the Assistant Secretary of the Navy. Phased construction of the project would be completed in four years.

The impacts to be evaluated include, but will not be limited to, impacts on fish and marine mammals, essential fish habitat, effects on endangered and threatened species, impacts relating to underwater noise, loss of underwater habitat, decreased opportunities for migratory and transient movement within the waterfront, impacts on cultural resources, reduction in water quality, impacts on wetlands, terrestrial impacts, effects on tribal resources, and consistency with the Coastal Zone Management Act.

The analysis will include an evaluation of direct, indirect, short term, and long term impacts and will account for cumulative impacts from other Navy and non-Navy activities in the project area.

The Navy is initiating the scoping process to identify community concerns and local issues to be addressed in the EIS. Federal agencies, state agencies, local agencies, and interested persons are encouraged to provide written comments in addition to, or in lieu of, oral comments at scheduled public scoping meetings.

Written comments must be postmarked by midnight July 14, 2008 and should be submitted to: Mr. Jack Spiller, Public Affairs Officer, Department of the Navy, Strategic Systems Programs, 2521 South Clark Street, Suite 1000, Arlington, VA 22202-3930, telephone: 703-601-9009, e-mail at: nbkehweis@ssp.navy.mil.

Dated: June 5, 2008.
L.R. Almand,
Office of the Judge Advocate General, U.S. Navy, Alternate Federal Register Liaison Officer.

[FR Doc. E8-12993 Filed 6-9-08; 8:45 am]

BILLING CODE 3810-FF-P